COMMITTEE FOR PURCHASE FROM PEOPLE WHO ARE BLIND OR SEVERELY DISABLED

Procurement List Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 6/11/2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 9/23/2011 (76 FR 59117-59118); 3/9/2012 (77 FR 14352-14353); and 3/16/2012 (77 FR 15736), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: 7510-00-079-7905—Package Sealing Tape, Tan.

NPA: Cincinnati Association for the Blind, Cincinnati, OH.

Contracting Activity: General Services Administration, New York, NY.

Coverage: B-List for the Broad Government Requirement as aggregated by the General Services Administration.

NSN: 5640-01-386-9618—Sound Controlling Blanket, 24″Wx54″L.

NPA: Genesee County Chapter, NYSARC, Batavia, NY.

Contracting Activity: General Services Administration, Fort Worth, TX.

Coverage: B-List for the Broad Government Requirement as aggregated by the General Services Administration.

Services

Service Type/Location: Custodial & Pest Control Services, Naval Operations Support Center (NOSC), 3623 Carolina Beach Rd., Wilmington, NC.

NPA: OE Enterprises, Inc., Hillsborough, NC.

Contracting Activity: Dept of the Navy, Naval FAC Engineering CMD MID LANT, Norfolk, VA.

Service Type/Location: Janitorial Services, Kahului Airport, 1 Airport Road, Kahului, HI.

NPA: Ka Lima O Maui, Ltd., Wailuku, HI.

Contracting Activity: Department of Homeland Security, Transportation Security Administration, Office of Acquisition, Arlington, VA.

Service Type/Location: Fleet Service, Naval Research Laboratory, 4555 Overlook Avenue SW., Washington, DC.

NPA: Skookum Educational Programs, Bremerton, WA.

Contracting Activity: Dept of the Navy, Naval Research Laboratory, Washington, DC.

Service Type/Location: Laundry, Refurbishment, and Warehouse Services, Army Contracting Command, 6501 E. 11 Mile Road, Warren, MI.

NPA: Peckham Vocational Industries, Inc., Lansing, MI.

Contracting Activity: Dept of the Army, W4GG HQ US Army TACOM, Warren, MI.

Barry S. Lineback,
Director, Business Operations.

[FR Doc. 2012-11413 Filed 5-10-12; 8:45 am]

BILLING CODE 6353-01-P